DEPARTMENT OF THE TREASURY

Office of Thrift Supervision

Submission for OMB Review; Comment Request

The Office of Thrift Supervision (OTS) has submitted the following public information collection requirement(s) to OMB for review and clearance under the Paperwork Reduction Act of 1995, Public Law 104-13. Interested persons may obtain a copy of the submission by calling the Acting OTS Clearance Officer listed. Send comments regarding this information collection to the OMB reviewer listed and to the Acting OTS Clearance Officer, Information Collection Comments, Chief Counsel's Office, Office of Thrift Supervision, 1700 G Street, NW., Washington, DC 20552, FAX Number (202) 906-6518, or e-mail to: infocollection.comments@ots.treas.gov.

DATES: Submit written comments on or before June 25, 2001.

OMB Number: 1550-0078.

Form Number: Not applicable.

Type of Review: Renewal.

Title: Lending and Investment.

Description: Savings associations must maintain adequate documentation to support their lending and investment activities. OTS staff may request the information during examinations.

Respondents: Savings and Loan Associations and Savings Banks.

Estimated Number of Respondents, Estimated Burden Hours Per Respondent, Frequency of Response, and Total Reporting Burden:

Regulatory provision (12 C.F.R.) | Number of respondents | Number of annual responses | Total number of yearly responses | Number of hours per response | Total number of hours yearly
§ 560.101 and Appendix A to § 560.101 | 1,068 | 1 | 1,068 | 40 | 42,720
§ 562.1(b); § 560.170 | 1,068 | 1 | 1,068 | 44.4 | 47,419
§ 563.41(e); § 563.42(e) | 1,068 | 1 | 1,068 | 4.6 | 4,913
§ 560.172; Part 564 | 1,068 | 130 | 138,840 | .33 | 45,817
§ 560.93(f)(2) | 1,068 | 9 | 9,612 | 1 | 9,612
§ 560.210 (Initial Notice) | 1,068 | 415 | 443,220 | .11 | 48,754
§ 560.210 (Adjustment Notice) | 1,068 | 415 | 443,220 | .4 | 177,288
§ 590.4(h) | 176 | 2 | 352 | 1 | 352
§ 560.32 | 1,068 | 1 | 1,068 | 8 | 8,544
§ 560.35 | 120 | 1 | 120 | 20 | 2,400
Totals |  |  |  |  | 387,819

Acting Clearance Officer: Sally W. Watts, (202) 906-7380, Office of Thrift Supervision, 1700 G Street, NW., Washington, D.C. 20552.

OMB Reviewer: Alexander Hunt, (202) 395-7860, Office of Management and Budget, Room 10202, New Executive Office Building, Washington, D.C. 20503.

Deborah Dakin,
Deputy Chief Counsel, Regulations & Legislation Division.

[FR Doc. 01-13125 Filed 5-23-01; 8:45 am]

BILLING CODE 6720-01-P